NATIONAL COUNCIL ON DISABILITY

Sunshine Act Meetings

DATE AND TIME: September 13, 2010, 12 p.m.-2 p.m. Eastern.

PLACE: Chairman Jonathan Young is calling a teleconference meeting of the National Council on Disability.

STATUS: Parts of this meeting will be open to the public. The rest of the meeting will be closed to the public.

MATTERS TO BE CONSIDERED: The agenda for this meeting is two-fold: (1) To discuss end-of-year final budget matters; and (2) to provide the Chairman an opportunity to discuss temporary personal circumstances and leadership considerations in light thereof. The first item on the agenda will be open to the public. The second portion of the agenda will be held in closed executive session pursuant to paragraphs (c)(2),(6), and (9) of the Sunshine Act, and in accordance with a determination made by the NCD Chairman.

Less than one week notice is being given pursuant to and in accordance with paragraph (e)(1) of the Sunshine Act based on a majority vote of the Council taken pursuant to electronic mail voting beginning on September 3. The timing of this meeting was prompted by the congruence of time-sensitive end-of-year budget issues and unforeseen temporary personal circumstances of the NCD Chairman, which prevent meeting any later than September 13. As much notice as possible has been provided given that the temporary personal circumstances requiring short notice did not emerge until September 1.

ACCOMMODATIONS: Those needing reasonable accommodations should notify NCD immediately.

CONTACT PERSON FOR MORE INFORMATION: Mark Quigley, Director of Communications, NCD, 1331 F Street, NW., Suite 850, Washington, DC 20004; 202-272-2004, 202-272-2074 (TTY).

Dated: September 7, 2010.
Joan M. Durocher,
Executive Director.

[FR Doc. 2010-22630 Filed 9-7-10; 4:15 pm]

BILLING CODE 6820-MA-P